LIBRARY OF CONGRESS

Copyright Office

[Docket No. 2015-7]

Section 512 Study: Extension of Time To Submit Requests To Participate in Roundtable

AGENCY: U.S. Copyright Office, Library of Congress.

ACTION: Extension of time to submit requests to participate in roundtable.

SUMMARY: The United States Copyright Office is extending the deadline for the submission of requests to participate in the section 512 roundtables in New York and California, which were announced in its March 18, 2016 Notice of Inquiry. See 81 FR 14896.

DATES: Requests to participate in the section 512 roundtables are now due no later than 11:59 p.m. Eastern Time on April 11, 2016.

ADDRESSES: Those who seek to participate in the section 512 roundtables should complete and submit the form available through the Copyright Office's Web site at http://www.copyright.gov/policy/section512/public-roundtable/participate-request.html. If electronic submission of such a request is not feasible, please contact the Office using the contact information below for special instructions.

FOR FURTHER INFORMATION CONTACT: Jacqueline C. Charlesworth, General Counsel and Associate Register of Copyrights, jcharlesworth@loc.gov; or Karyn Temple Claggett, Director of the Office of Policy and International Affairs and Associate Register of Copyrights, kacl@loc.gov. Each can be reached by telephone at (202) 707-8350.

SUPPLEMENTARY INFORMATION: The United States Copyright Office is undertaking a public study to evaluate the impact and effectiveness of the DMCA safe harbor provisions contained in section 512 of Title 17. On March 18, 2016, the Office issued a Notice of Inquiry announcing two two-day public roundtables in New York, New York on May 2 and 3, 2016, and Stanford, California on May 12 and 13, 2016.

The roundtables will offer an opportunity for interested parties to comment further on the issues raised in the Office's December 31, 2015 Notice of Inquiry regarding section 512. See 80 FR 81862. Additional information about the specific topics to be covered at the roundtables is available at http://www.copyright.gov/policy/section512/public-roundtable/participate-request.html. To ensure that those interested in participating in the section 512 roundtables have sufficient time to submit a request, the Office is extending the deadline for such requests to April 11, 2016, at 11:59 p.m. Eastern Time.

Dated: March 29, 2016.
Maria A. Pallante,
Register of Copyrights, U.S. Copyright Office.

[FR Doc. 2016-07550 Filed 4-1-16; 8:45 am]

BILLING CODE 1410-30-P